DEPARTMENT OF THE INTERIOR

Utah Reclamation Mitigation and Conservation Commission

Central Utah Project Completion Act

AGENCY: Department of the Interior. Office of the Assistant Secretary—Water and Science; and the Utah Reclamation Mitigation and Conservation Commission (Commission).

ACTION: Notice of availability, Draft Environmental Impact Statement (DEIS), Lower Duchesne river Wetlands Mitigation Project, Duchesne and Uintah Counties, Utah.

SUMMARY: Pursuant to section 102(2)(c) of the National Environmental Policy Act of 1969, as amended, the Central Utah Project Completion Act Office, and the Utah Reclamation Mitigation and Conservation Commission (Commission), propose to create, restore, and otherwise enhance riparian wetland habitats along the Duchesne River, utah, as partial mitigation for the Bonneville Unit, Central Utah Project (CUP). This project has been planned in conjunction with the Ute Indian Tribe of the Uintah and Ouray Agency and is intended to fulfill long-standing commitments to mitigate for impacts to Ute Indian tribal and non-tribal wetland-wildlife habitats arising from construction and operation of the Bonneville Unit, and to provide additional wetland/wildlife benefits to the Ute Indian Tribe.

A Proposed Action and two alternatives are evaluated, along with the No Action Alternative, in the DEIS. Under the Proposed Action, approximately 7,790 acres of land composed of Ute Indian Tribal trust lands, up to 2,154 acres of fee lands to be acquired by the Federal Government, and a 1,087-acre parcel of existing Federal land would be acquired and/or developed into a cohesive wetlands management unit. A portion of the water currently managed by the Bureau of Indian Affairs for the uinta Indian Irrigation Project would be utilzed, along with water available under rights owned by the Federal Government, and any water acquired with fee lands, to improve existing, and restore prior existing, wetlands throughout the property. In general, the lands would be improved and managed for fish and wildlife habitat and wetland resources in a manner that replaces wetland resources, especially Ute Indian Tribal resources, lost or adversely impacted by the Bonneville Unit, CUP. All project lands would be managed by the Ute Indian Tribe under management agreements with the Joint Lead Agencies to achieve the prescribed wetlands-associated fish and wildlife benefits, and for other wetland/wildlife-related tribal benefits. The alternatives included in the DEIS are similar to the Proposed Action, differing only in the acreage amounts and locations.

The public is invited to submit comments on the adequacy of the DEIS and the assessment of environmental impacts. Comments received in response to this notice will be part of the public record and available for public review pursuant to the Freedom of Information Act (5 U.S.C. 552) and may be released to the public upon request. This will normally include names, addresses, and any other personal information be withheld from such releases by so indicating in their letter of comment or by means of separate written communication.

DATES: The DEIS will be available for public review and comment for a minimum of forty-five (45) calendar days following the publication of this notice. The deadline for submittal of written comments on the DEIS will be stated on the cover sheet of the document and noted in the transmittal letter to all reviewers.

Comments on the DEIS may also be presented verbally or in writing at the public meetings to be held at the vicinity of the project. Public meetings are being held to present the evaluation of environmental impacts to the public and provide additional opportunity for public comment on the project. The places, dates, and times of public meetings will be noted in the transmittal letter to all reviewers and announced in local newspapers.

Public meetings will be held at the following locations:

December 16, 2003: West Junior High School, East Highway 40, Fort Duchesne, Utah 84026.

December 17, 2003: Crossroads Senior Center, 50 East 200 South, Roosevelt, Utah 84066.

December 18, 2003: State Office, Bureau of Land Management, Third Floor Conference Room, 324 South State Street, Salt Lake City, Utah 84138.

All meetings will begin at 6 pm and conclude at 8 pm.

ADDRESSES: Comments on the DEIS should be addressed to: Mr. Ron Groves, Director, Wissiups Wetlands Project, Ute Indian Tribe, PO Box 190, Ft. Duchesne, Utah 84026.

FOR FURTHER INFORMATION CONTACT: Copies of the Draft EIS and the resource technical reports can be obtained by contacting Mr. Ron Groves, Director, Wissiups Wetlands Project, Ute Indian Tribe, PO Box 190, Ft. Duchesne, Utah 84026, Telephone: (435) 722-5867, E-mail address: wetlands@ubtanet.com.

Copies of the DEIS are also available for inspection at:

Utah Reclamation Mitigation and Conservation Commission, 102 West 500 South, Suite 315, Salt Lake City, Utah 84101.

Department of the Interior, Central Utah Project Completion Act Office, 302 East 1860 South, Provo, Utah 84606.

Department of the Interior, Natural Resource Library, 1849 C Street, NW., Washington, DC 20240.

Duchesne County Library, 70 East Lagoon, Roosevelt, Utah 84066.

Headquarters, Ute Indian Tribe of the Uintah and Ouray Agency, 988 South 7500 East, Ft. Duchesne, Utah 84026.

Information on other matters related to this notice may be obtained by calling or writing Mr. Ralph G. Swanson, Program Coordinator, CUP Completion Act Office, Department of the Interior, 302 East 1860 South, Provo UT 84606-6154, Telephone (801) 379-1254, E-mail address: rswanson@uc.usbr.gov.

Dated: September 8, 2003.
Ronald Johnston,
CUP Program Director, Department of the Interior.

Dated: September 8, 2003.
Michael C. Weland,
Executive Director, Utah Reclamation Mitigation and Conservation Commission.

[FR Doc. 03-29243 Filed 11-21-03; 8:45 am]

BILLING CODE 4310-RK-P